DEPARTMENT OF THE INTERIOR

National Park Service

[NPS-WASO-NAGPRA-NPS0032326; PPWOCRADN0-PCU00RP14.R50000]

Notice of Intent To Repatriate Cultural Items: University of Denver Museum of Anthropology, Denver, CO

AGENCY: National Park Service, Interior.

ACTION: Notice.

SUMMARY: The University of Denver Museum of Anthropology, in consultation with the appropriate Indian Tribes or Native Hawaiian organizations, has determined that the cultural items listed in this notice meet the definition of unassociated funerary objects. Lineal descendants or representatives of any Indian Tribe or Native Hawaiian organization not identified in this notice that wish to claim these cultural items should submit a written request to the University of Denver Museum of Anthropology. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the University of Denver Museum of Anthropology at the address in this notice by August 23, 2021.

FOR FURTHER INFORMATION CONTACT: Anne Amati, University of Denver Museum of Anthropology, 2000 E Asbury Avenue, Sturm Hall 146, Denver, CO 80208, telephone (303) 871-2687, email anne.amati@du.edu.

SUPPLEMENTARY INFORMATION: Notice is here given in accordance with the Native American Graves Protection and Repatriation Act (NAGPRA), 25 U.S.C. 3005, of the intent to repatriate cultural items under the control of the University of Denver Museum of Anthropology, Denver, CO, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, one cultural item was removed from an unknown site in Arizona. At an unknown date, the item came into the possession of the Fred Harvey Company, a Native American art collector and dealer headquartered in Santa Fe, NM. At an unknown date, the item was transferred to Kohlberg's Antique Store in Denver, Colorado, where, at an unknown date, the item was purchased by Fallis F. Rees. In 1967, Mr. Rees donated the item to the University of Denver Museum of Anthropology. The one unassociated funerary object is a cremation bowl cap (DU# 3886) identified as belonging to the Gila Plain pottery style. Gila Plain pottery was produced between A.D. 200 to 1450, which encompasses the Hohokam sequence. Museum records indicate the object was from a cremation.

At an unknown date, one cultural item was removed from an unknown site near Gila Bend in Maricopa County, AZ. At an unknown date, the item came into the possession of Fallis Reese who, in 1967, donated the item to the University of Denver Museum of Anthropology. The one unassociated funerary object is an effigy paint mortar (DU# 3990) identified as belonging to the Santa Cruz style. Santa Cruz pottery was produced between A.D. 800-900, which encompasses the Hohokam sequence. Museum records indicate the object was removed from a cremation.

At an unknown date, one cultural item was removed from “Middle Verde” in Arizona. Based on archival research, museum, staff believes that “Middle Verde” could refer to the Verde River, which runs through Yavapai and Maricopa Counties. The river is divided into three designated areas—the upper, middle, and lower. At an unknown date, the item came into the possession of Omar Turney, a Phoenix archeologist and engineer who studied prehistoric irrigation canals in the Salt River Valley and in 1901, wrote the report “Water Supply and Irrigation on the Verde River and Tributaries.” At an unknown date, Turney transferred the item to Fallis Reese who, in 1967, donated the item to the University of Denver Museum of Anthropology. The one unassociated funerary object is a blade (DU# 3910). During recent excavations at sites along the Middle Gila Valley, a similar blade form has been found placed over the face in Hohokam burials.

At an unknown date, one cultural item was removed from Snaketown in Pinal County, AZ. At an unknown date, the item came into the possession of Fallis Reese who, in 1967, donated the item to the University of Denver Museum of Anthropology. The one unassociated funerary object is a shell bracelet fragment (DU# misc. coll. 18-RE49-3). The item is burnt, signifying it is from a cremation context. Shell bracelets are consistent with the Hohokam cultural group.

At an unknown date, one cultural item was removed from Pinal County, AZ, by E.B. Renaud, during an archeological expedition sponsored by the University of Denver. The one unassociated funerary object is a lot of ceramic sherds (DU# AZ37). The sherds are consistent with the material type and manufacture techniques of the Hohokam cultural group.

At unknown dates, two cultural items were removed from unknown sites either near the Gila River or in the Gila Valley, in southwestern Arizona. At unknown dates, the items came into the possession of Fallis Reese who, in 1967, donated them to the University of Denver Museum of Anthropology. The two unassociated funerary objects are two shells (DU# 3931c&d). The items are burnt, signifying they are from a cremation context. Shells are consistent with the Hohokam cultural group.

At unknown dates, two cultural items were removed from unknown sites. On March 26, 1972, the items were included in a box of objects anonymously left at the door of the University of Denver Anthropology Laboratory. The objects were later accessioned into the University of Denver Museum collection. The two unassociated funerary objects are shell bracelets (DU# 5740a-b). Shell bracelets of this type have been found in Hohokam burials of infants, children, and adults.

The Gila River Indian Community of the Gila River Indian Reservation, Arizona, and the Salt River Pima-Maricopa Indian Community of the Salt River Reservation, Arizona, have requested the repatriation of the cultural items described above as follows: The Gila River Indian Community of the Gila River Indian Reservation, Arizona, has requested DU#s 3886, 3990, 3931c-d, misc. coll. 18-RE49-3, and misc. coll. AZ37; and the Salt River Pima-Maricopa Indian Community of the Salt River Reservation, Arizona, has requested DU#s 3910 and 5740a-b.

Determinations Bade by the University of Denver Museum of Anthropology

Officials of the University of Denver Museum of Anthropology have determined that:

• Pursuant to 25 U.S.C. 3001(3)(B), the nine cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Gila River Indian Community of the Gila River Reservation, Arizona and the Salt River Pima-Maricopa Indian Community of the Salt River Reservation, Arizona (hereafter referred to as “The Tribes”).

Additional Requestors and Disposition

Lineal descendants or representatives of any Indian Tribe or Native Hawaiian organization not identified in this notice that wish to claim these cultural items should submit a written request with information in support of the claim to Anne Amati, University of Denver Museum of Anthropology, 2000 E Asbury Avenue, Sturm Hall 146, Denver, CO 80208, telephone (303) 871-2687, email anne.amati@du.edu, by August 23, 2021. After that date, if no additional claimants have come forward, transfer of control of the unassociated funerary objects The Tribes may proceed.

The University of Denver Museum of Anthropology is responsible for notifying The Tribes that this notice has been published.

Dated: July 14, 2021.
Melanie O'Brien,
Manager, National NAGPRA Program.

[FR Doc. 2021-15570 Filed 7-21-21; 8:45 am]

BILLING CODE 4312-52-P